DEPARTMENT OF ENERGY

Federal Energy Regulatory Commission

[Docket No. EC04-7-000, et al.]

Enron Wind LLC, et al.; Electric Rate and Corporate Filings

October 31, 2003.

The following filings have been made with the Commission. The filings are listed in ascending order within each docket classification.

1. Enron Wind LLC, Victory Garden Power Partners I LLC, Cabazon Power Partners LLC, ZWHC LLC, Green Power Partners I LLC, Sky River LLC, Victory Garden LLC; and FPL Energy Sky River Wind, LLC, FPL Energy Green Power Wind, LLC, FPL Energy VG Repower Wind, LLC, FPL Energy VG Wind, LLC, FPL Energy 251 Wind, LLC, FPL Energy Cabazon Wind, LLC

[Docket No. EC04-7-000]

Take notice that on October 24, 2003, Enron Wind LLC (Enron Wind), on behalf of itself and certain affiliates, Victory Garden Power Partners I LLC, Cabazon Power Partners LLC, ZWHC LLC, Green Power Partners I LLC, Sky River LLC, and Victory Garden LLC (collectively, the Sellers) and FPL Energy Sky River Wind, LLC, FPL Energy VG Wind, LLC, FPL Energy Cabazon Wind, LLC, FPL Energy Green Power Wind, LLC, FPL Energy VG Repower Wind, LLC, and FPL Energy 251 Wind, LLC (collectively, the Purchasers) filed with the Federal Energy Regulatory Commission an application pursuant to Section 203 of the Federal Power Act for authorization of the sale by the Sellers to the Purchasers (all wholly-owned subsidiaries of FPL Energy, LLC) of: (1) Generation assets owned by four wind power project companies (one of which is an indirect wholly-owned subsidiary of Enron Wind and three of which are held in trust for the benefit of the creditors of Enron Wind Systems, LLC, Enron Wind Development LLC, and Enron Wind); and (2) the sale of a 50% interest in two project partnerships (Sky River Partnership and Victory Garden Phase IV Partnership), which 50% interests are indirectly owned by a trust established for the benefit of Enron Wind Systems, LLC and Enron Wind. The application requests approval by December 15, 2003.

Comment Date: November 14, 2003.

2. El Paso Merchant Energy, L.P. and Duke Energy Trading and Marketing, L.L.C.

[Docket No. EC04-8-000]

Take notice that on October 27, 2003, El Paso Merchant Energy, L.P. (EPME), and Duke Energy Trading and Marketing, L.L.C. (DETM) (jointly, Applicants) filed with the Federal Energy Regulatory Commission an application pursuant to Section 203 of the Federal Power Act for authorization for EPME to assign its rights and obligations under a capacity supply agreement to DETM. Applicants also requested expedited consideration of the Application and privileged treatment for certain exhibits pursuant to 18 CFR 33.9 and 388.112.

Comment Date: November 17, 2003.

3. SOWEGA Power LLC

[Docket No. ER99-3427-003]

Take notice that on October 27, 2003, SOWEGA Power LLC (SOWEGA) tendered for filing supplemental information to its application filed on September 17, 2003 pursuant to 18 CFR 33 and Section 203 of the Federal Power Act.

Comment Date: November 6, 2003.

4. Mid-Power Service Corporation

[Docket No. ER97-4257--011]

Take notice that on October 16, 2003, Mid-Power Service Corporation submitted for filing it Triennial Revised Market Analyses for period ending September 30, 2003 in compliance with Commission's Order dated September 30, 1997.

Comment Date: November 12, 2003.

5. GEN-SYS Energy

[Docket No. ER97-4335-006]

Take notice that on October 17, 2003, GEN-SYS Energy (GEN-SYS) submitted for filing a triennial updated market power analysis in compliance with Commission's Order issued October 17, 1997 in Docket No. ER97-4335-000, 18 FERC ¶ 61,045.

Comment Date: November 12, 2003.

6. Griffith Energy LLC

[Docket No. ER00-3696-002]

Take notice that on October 27, 2003, Griffith Energy LLC filed with the Federal Energy Regulatory Commission an updated market power analysis pursuant to the Commission's Order in Griffith Energy LLC, Docket No. ER00-3696-000 issued October 25, 2000.

Griffith Energy LLC states it has served a copy of this filing on the parties on the Commission's official service list for this docket.

Comment Date: November 17, 2003.

7. Central Hudson Gas & Electric Corporation

[Docket No. ER03-1129-001]

Take notice that on October 27, 2003, Central Hudson Gas & Electric Corporation (Central Hudson) tendered for filing a compliance filing pursuant to the Order issued on September 26, 2003 in ER03-1129-000. Central Hudson submitted a paginated tariff sheet consistent with Order No. 614.

Comment Date: November 17, 2003.

8. Stalwart Power Company

[Docket No. ER03-1352-001]

Take notice that on October 27, 2003, Stalwart Power Company submitted a Notice of Cancellation, FERC Electric Tariff, Original Volume No. 1, First Revised Sheet No. 1.

Comment Date: November 17, 2003.

9. Xcel Energy Services Inc.

[Docket No. ER03-1366-001]

Take notice that on October 27, 2003, Xcel Energy Services Inc. (XES) on behalf of Northern States Power Company (NPS) tendered for filing additional information in support of the Generation Interconnection Agreement filed on September 23, 2003 in Docket No. ER03-1366-000.

XES states that copies of this filing have been served on the parties listed on the service list in this proceeding.

Comment Date: November 17, 2003.

10. Xcel Energy Services Inc.

[Docket No. ER03-1367-001]

Take notice that on October 27, 2003, Xcel Energy Services Inc. (XES), on behalf of Northern States Power Company (NSP) tendered for filing additional information in support of the Generation Interconnection Agreement filed on September 23, 2003 in Docket no. ER03-1367-000.

XES states that copies of this filing have been served on the parties listed on the service list in this proceeding.

Comment Date: November 17, 2003.

11. Perryville Energy Partners, L.L.C.

[Docket No. ER03-1370-001]

Take notice that on October 27, 2003, Perryville Energy Partners, L.L.C. (Perryville) tendered for filing substitute Original Sheet No. 5 to FERC Electric Tariff, Original Volume No. 1. Perryville states that the sheet is one of three pages in Perryville's Statement of Policy and Code of Conduct with Respect to the Relationship between Perryville and the other Cleco Companies. Perryville requests an effective date of September 24, 2003.

Comment Date: November 17, 2003.

12. Midwest Independent Transmission System Operator, Inc.

[Docket No. ER03-996-001]

Take notice that on October 27, 2003, the Midwest Independent Transmission System Operator, Inc. (Midwest ISO) pursuant to Section 205 of the Federal Power Act and Section 35.13 of the Commission's regulations, 18 CFR 35.13, submitted for filing a revised Interconnection and Operating Agreement among Interstate Power and Light Company, a wholly owned subsidiary of Alliant Energy Corporation, (Transmission) and Interstate Power and Light Company, a wholly owned subsidiary of Alliant Energy Corporation, (Generation).

Midwest states that a copy of this filing was served on all parties to the proceeding.

Comment Date: November 17, 2003.

13. AmerenEnergy Medina Valley Cogen, L.L.C.

[Docket No. ER04-8-001]

Take notice that on October 27, 2003, AmerenEnergy Medina Valley Cogen, L.L.C. (AEMVC) submitted for filing a Notice of Succession, pursuant to Sections 35.16 and 131.51 of the Commission's regulations. AEMVC asserts that the purpose of the filing is to amend the Notice of Succession filed on October 2, 2003, in Docket No. ER04-8-001 by submitting the AmerenEnergy Medina Valley Cogen, L.L.C. FERC Electric Tariff, Original Volume No. 1 (Supersedes FERC AES Medina Valley Cogen, L.L.C. FERC Electric Tariff, Original Volume No. 1).

Comment Date: November 17, 2003.

14. Public Service Company of New Mexico

[Docket No. ER04-80-000]

Take notice that on October 27, 2003, Public Service Company of New Mexico (PNM) tendered for filing a Letter of Memorandum from PNM to FPL Energy New Mexico Wind, LLC (FPLE), Southwestern Public Service Company (SPS), Western Area Power Administration (Western), and Farmers Electric Cooperative (FEC) regarding the procedures and methodology agreed to, on an interim basis, to facilitate the provision of auxiliary power to meet certain of the internal power requirements of the FPLE, approximately, 200 MW wind power electric energy generating facility located in eastern New Mexico.

PNM states that copies of the filing have been sent to FPLE, SPS, Western, FEC, the New Mexico Public Regulation Commission, and the New Mexico Attorney General.

Comment Date: November 17, 2003.

15. Allegheny Energy Supply Company, LLC and Monongahela Power Company

[Docket No. ER04-81-000]

Take notice that on October 27, 2003, Allegheny Energy Supply Company, LLC (AE Supply) and Monongahela Power Company (Mon Power) (hereafter together Applicants) submitted for filing rate schedules under which they respectively specify their revenue requirement for providing cost-based Reactive Support and Voltage Control from Generation Sources Service from the generating facilities owned by AE Supply and Mon Power located in the Allegheny Power Zone within the PJM control area administered by the PJM Interconnection, L.L.C. Applicants request an effective date of December 1, 2003 for the proposed rate schedules.

AE Supply states that copies of the filing were posted on the PJM website and the Allegheny Web site.

Comment Date: November 17, 2003.

16. Tampa Electric Company

[Docket No. ER04-82-000]

Take notice that on October 27, 2003, Tampa Electric Company (Tampa Electric) tendered for filing a Notice of Cancellation of the service agreement with Cargill Power Markets, LLC (Cargill) under Tampa Electric's Market-Based Sales Tariff. Tampa Electric proposes that the cancellation be made effective on December 24, 2003.

Tampa Electric states that copies of the filing have been served on Cargill and the Florida Public Service Commission.

Comment Date: November 17, 2003.

17. The Mack Services Group

[Docket No. ER04-83-000]

Take notice that on October 27, 2003, The Mack Services Group tendered for filing a Notice of Cancellation of its Market-Based Rate Authority approved by the Commission in Docket No. ER99-1750-000. The Mack Service's Group requests an effective date of April 1, 2002.

Comment Date: November 17, 2003.

18. New York State Electric & Gas Corporation

[Docket No. ER04-84-000]

Take notice that on October 27, 2003, New York State Electric & Gas Corporation (NYSEG) tendered for filing pursuant to section 205 of the Federal Power Act and § 35.13 of the Commission's Regulations, a supplement to Rate Schedule 72, an Agreement with the Municipal Board of the Village of Bath. NYSEG requests an effective date of January 1, 2004.

NYSEG states that copies of the filing were served upon the Municipal Board of the Village of Bath and the Public Service Commission of the State of New York.

Comment Date: November 17, 2003.

19. New York State Electric & Gas Corporation

[Docket No. ER04-85-000]

Take notice that on October 27, 2003, New York State Electric & Gas Corporation (NYSEG) tendered for filing pursuant to section 205 of the Federal Power Act and § 35.13 of the Commission's regulations a supplement to Rate Schedule 117, an Agreement with the Delaware County Electric Cooperative.

NYSEG request an effective date of January 1, 2004.

NYSEG states that copies of the filing were served upon the Delaware County Electric Cooperative, Inc. and the Public Service Commission of the State of New York.

Comment Date: November 17, 2003.

20. Illinois Power Company

[Docket No. ER04-86-000]

Take notice that on October 27, 2003, Illinois Power Company (Illinois Power) tendered for filing a Network Integration Transmission Service Agreement entered into by Illinois Power and Archer-Daniels-Midland Company, Service Agreement No. 370. Illinois Power requests an effective date of October 1, 2003.

Comment Date: November 17, 2003.

21. Three Rivers Energy LLC

[Docket No. ER04-88-000]

Take notice that on October 27, 2003, SOWEGA Power LLC (SOWEGA) and Three Rivers Energy LLC (Three Rivers) submitted a rate schedule designated as Three Rivers Energy LLC FERC Rate Schedule No. 2. The rate schedule submitted revises SOWEGA's existing market-based rate schedule to substitute Three Rivers for SOWEGA. SOWEGA and Three Rivers request that the rate schedule become effective upon the date of disposition of SOWEGA's facilities, including SOWEGA's market-based sales tariff, to Three Rivers.

Comment Date: November 6, 2003.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00188 Filed 11-7-03; 8:45 AM]

BILLING CODE 6717-01-P